DEPARTMENT OF TRANSPORTATION

Federal Aviation Administration

14 CFR Part 71

[Airspace Docket No. 00-ASO-40]

Removal of Class E4 Airspace; Meridian NAS—McCain Field, MS

AGENCY: Federal Aviation Administration (FAA), DOT.

ACTION: Final rule.

SUMMARY: This action removes the Class E4 Airspace at Meridian NAS—McCain Field, MS, as there are no longer Standard Instrument Approach Procedures (SIAP) for Meridian NAS—McCain Field requiring an extension to the Class D surface area airspace.

EFFECTIVE DATE: 0901 UTC, January 25, 2001.

FOR FURTHER INFORMATION CONTACT: Wade T. Carpenter, Jr., Manager Airspace Branch, Air Traffic Division, Federal Aviation Administration, P.O. Box 20636, Atlanta, Georgia 30320; telephone (404) 305-5627.

SUPPLEMENTARY INFORMATION:

History

A review of the controlled airspace for Meridian NAS—McCain Field revealed the existence of an extension to the Class D surface area airspace, although there are no longer SIAPs requiring such an extension. Therefore, the Class E4 airspace area must be removed. This rule will become effective on the date specified in the DATES section. Since this action eliminates the impact of controlled airspace on users of the airspace in the vicinity of the Meridian NAS—McCain Field, notice and public procedure under 5 U.S.C. 553(b) are unnecessary. Class E4 airspace designations for airspace areas designated as an extension to a Class D airspace area are published in FAA Order 7400.9H, dated September 1, 2000, and effective September 16, 2000, which is incorporated by reference in 14 CFR 71.1. The Class E designation listed in this document will be published subsequently in the Order.

The Rule

This amendment to Part 71 of the Federal Aviation Regulations (14 CFR Part 71) removes Class E4 airspace at Meridian NAS—McCain Field, MS.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g), 40103, 40113, 40120; EO 10854, 24 FR 9565, 3 CFR, 1959-1963 Comp., p. 389; 14 CFR 11.69.

§ 71.1 [Amended]

2. The incorporation by reference in 14 CFR 71.1 of Federal Aviation Administration Order 7400.9H, Airspace Designations and Reporting Points, dated September 1, 2000, and effective September 16, 2000, is amended as follows:

Paragraph 6004 Class E4 Airspace Areas Designated as an Extension to Class D Airspace Area.

* * * * *

ASO MS E4 Meridian NAS—McCain Field, MS [Remove]

* * * * *

Issued in College Park, Georgia, on November 16, 2000.
Wade T. Carpenter,
Acting Manager, Air Traffic Division, Southern Region.

[FR Doc. 00-29909 Filed 11-21-00; 8:45 am]

BILLING CODE 4910-13-M